DEPARTMENT OF ENERGY

Blue Ribbon Commission on America's Nuclear Future

AGENCY: Department of Energy, Office of Nuclear Energy.

ACTION: Notice of open meeting.

SUMMARY: This notice announces an open meeting of the Blue Ribbon Commission on America's Nuclear Future (the Commission). The Commission was organized pursuant to the Federal Advisory Committee Act (Pub. L. 94-463, 86 Stat. 770) (the Act). The Act requires that agencies publish these notices in the Federal Register. The Charter of the Commission can be found at http://www.energy.gov/news/documents/BRC_Charter.pdf.

DATES: Thursday, March 25, 2010, 1 p.m.-5 p.m.; Friday, March 26, 2010, 8:30 a.m.-12 p.m.

ADDRESSES: Willard Intercontinental, 1401 Pennsylvania Avenue, Washington, DC 20004, (202) 628-9100.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov.

SUPPLEMENTARY INFORMATION: Background: The President directed that the Blue Ribbon Commission on America's Nuclear Future (the Commission) be established to conduct a comprehensive review of policies for managing the back end of the nuclear fuel cycle. The Commission will provide advice and make recommendations on issues including alternatives for the storage, processing, and disposal of civilian and defense spent nuclear fuel and nuclear waste.

The Commission is composed of individuals of diverse backgrounds selected for their technical expertise and experience, established records of distinguished professional and pubic service, and their knowledge of issues pertaining to nuclear energy.

Purpose of the Meeting: Inform the Commission members about the history and current status of spent nuclear fuel and high-level waste disposal in the United States and projections of disposal needs in the future.

Tentative Agenda: The initial meeting is expected to include presentations on the history of efforts to dispose of civilian light-water reactor spent nuclear fuel (SNF) and defense high-level waste (HLW) in the United States. Presentations are also expected that will provide the status of the SNF and HLW (quantities and locations), projected generation rates for SNF associated with new nuclear plants, and projected quantities of defense HLW.

Public Participation: The meeting is open to the public. Individuals and representatives of organizations who would like to offer comments and suggestions may do so at the end of the meeting on Friday, March 26, 2010. Approximately 15 minutes will be reserved for public comments. Time allotted per speaker will depend on the number who wish to speak but will not exceed 5 minutes. The Designated Federal Officer is empowered to conduct the meeting in a fashion that will facilitate the orderly conduct of business. Those not able to attend the meeting or have insufficient time to address the committee are invited to send a written statement to Timothy A. Frazier, U.S. Department of Energy 1000 Independence Avenue, SW., Washington, DC 20585, or e-mail CommissionDFO@nuclear.energy.gov.

Minutes: The minutes of the meeting will be available by contacting Mr. Frazier. He may be reached at the postal address or email address above.

Issued in Washington, DC on March 3, 2010.
Rachel Samuel,
Deputy Committee Management Officer.

[FR Doc. 2010-4987 Filed 3-8-10; 8:45 am]

BILLING CODE 6450-01-P